DEPARTMENT OF TRANSPORTATION

National Highway Traffic Safety Administration

[Docket No. NHTSA 2003-15154; Notice 1]

General Motors North America, Receipt of Application for a Decision of Inconsequential Noncompliance

General Motors North America (GM), has determined that certain 2003 model year Silverado/Sierra pickup trucks, Tahoe/Suburban/Escalade sport utility vehicles, and Savanna/Express vans do not comply with either S5.3.3(a) of Federal Motor Vehicle Safety Standard (FMVSS) No. 105, or S5.5.3 of FMVSS No. 135, whichever standard is applicable based on gross vehicle weight rating.

Pursuant to 49 U.S.C. 30118(d) and 30120(h), GM has petitioned for a determination that the noncompliance is inconsequential to motor vehicle safety and has filed an appropriate report pursuant to 49 CFR 573, “Defect and Noncompliance Reports.”

This notice of receipt of an application is published under 49 U.S.C. 30118 and 30120 and does not represent any agency decision or other exercise of judgment concerning the merits of the application.

A total of approximately 251,000 vehicles are involved. Specifically, the red “BRAKE” telltale, if illuminated, will be extinguished for the duration of an Antilock Brake System (ABS) activation event that involves the front wheels. Stated briefly, the “BRAKE” telltale will not be illuminated while ABS is modulating the front brakes.

GM considers the momentary deactivation of the “BRAKE” telltale while ABS is cycling to be inconsequential to motor vehicle safety for the following reasons:

The owner's manual of the noncompliant vehicles includes the following text regarding the “BRAKE” telltale:

If the light comes on while you are driving, pull off the road and stop carefully. You may notice that the pedal is harder to push. Or, the pedal may go closer to the floor. It may take longer to stop. If the light is still on, have the vehicle towed for service.

The instructions and caution are intended to prompt drivers to take immediate corrective action when the “BRAKE” telltale is illuminated, thereby minimizing any likelihood that the vehicle will experience ABS cycling subsequent to initial illumination of the telltale.

S5.3.4 of FMVSS 105 allows the subject “BRAKE” telltale to be “steady burning or flashing.” The corresponding language in S5.5.4 of FMVSS 135 is “continuous or flashing”. This explicit regulatory allowance for flashing demonstrates that momentary absence of telltale illumination is not per se a safety issue.

The “BRAKE” and “ABS” telltales on the subject vehicles otherwise comply with all applicable provisions of S5.3 of FMVSS 105 and S5.5 of FMVSS 135. The noncompliance is limited in scope to the single word “whenever” in S5.3.3(a) of FMVSS 105 or S5.5.3 of FMVSS 135. GM is not aware of any crashes, injuries, owner complaints or field reports related to this condition.

Interested persons are invited to submit written data, views, and arguments on the application described above. Comments must refer to the docket and notice number cited at the beginning of this notice and be submitted to: U.S. Department of Transportation, Docket Management, Room PL-401, 400 Seventh Street, SW., Washington, DC, 20590. It is requested, but not required, that two copies of the comments be provided. The Docket Section is open on weekdays from 10 a.m. to 5 p.m. Comments may be submitted electronically by logging onto the Dockets Management System Web site at <http://dms.dot.gov>. Click on “Help” to obtain instructions for filing the document electronically.

All comments received before the close of business on the closing date indicated below will be considered. The application and supporting materials, and all comments received after the closing date, will also be filed and will be considered to the extent possible. When the application is granted or denied, the notice will be published in the Federal Register pursuant to the authority indicated below.

Comment closing date: July 7, 2003.

(49 U.S.C. 301118, 301120; delegations of authority at 49 CFR 1.50 and 501.8)
Issued on: June 2, 2003.
Stephen R. Kratzke,
Associate Administrator for Rulemaking.

[FR Doc. 03-14220 Filed 6-4-03; 8:45 am]

BILLING CODE 4910-59-P